DEPARTMENT OF HEALTH AND HUMAN SERVICES

Health Resources and Services Administration

Health Center Program

AGENCY: Health Resources and Services Administration, HHS.

ACTION: Notice of Noncompetitive Replacement Awards to Albany Area Primary Health Care, Inc.

SUMMARY: The Health Resources and Services Administration (HRSA) will be transferring Health Center Program (section 330 of the Public Health Service Act) Community Health Center (CHC), Increased Demand for Services (IDS), and Capital Improvement Program (CIP) funds originally awarded to Unadilla Health Care Center, Inc., to Albany Area Primary Health Care, Inc., to ensure the provision of critical primary health care services to underserved populations in Dooly County, Georgia.

SUPPLEMENTARY INFORMATION: Former Grantee of Record: Unadilla Health Care Center, Inc.

Original Period of Grant Support: December 1, 2008, to November 30, 2010 (CHC); March 27, 2009, to March 26, 2011 (IDS); and June 29, 2009, to June 28, 2011 (CIP).

Replacement Awardee: Albany Area Primary Health Care, Inc.

Amount of Replacement Awards: The current awards for Unadilla Health Care Center, Inc., were issued at $678,041 (CHC); $126,411 (IDS); and $316,325 (CIP). The amounts transferred will be the remaining funds from those most recent awards.

Period of Replacement Awards: The period of support for the replacement awards is the remaining time in the Health Center project period ending on November 30, 2010 (CHC); March 26, 2011 (IDS); and June 28, 2011 (CIP).

Authority: Section 330 of the Public Health Service Act, 42 U.S.C. 254b.

CFDA Numbers: 93.224 and 93.703

Justification for the Exception to Competition

The former grantee, Unadilla Health Care Center, Inc. (UnaHealth), notified HRSA that it was unable to carry out the administrative and programmatic requirements to appropriately manage the grant funds and indicated that it would be relinquishing the grant funds. UnaHealth is unable to provide the necessary primary health care services in Dooly County, Georgia, to the more than 3,000 low income, underserved and uninsured individuals in the service area.

Albany Area Primary Health Care, Inc. (AAPHC) is an experienced provider of care and has a demonstrated record of compliance with the Health Center Program statutory and regulatory requirements and is located in the same geographical area. AAPHC will provide services to the residents of Dooly County at a site proximate to UnaHealth's current location. Community support for this transfer is demonstrated by letters of support from three other existing section 330 grantees in the service area, as well as a letter of support from the local Primary Care Association.

This underserved target population has an immediate need for vital primary health care services and would be negatively impacted by any delay or disruption of services caused by a competition. As a result, in order to ensure that critical primary health care services remain available to the original target population without disruption, this replacement award will not be competed.

FOR FURTHER INFORMATION CONTACT: Lynn Spector via e-mail at lspector@hrsa.gov or 301-594-4300.

Dated: June 3, 2010.
Mary K. Wakefield,
Administrator.

[FR Doc. 2010-13865 Filed 6-8-10; 8:45 am]

BILLING CODE 4165-15-P